DEPARTMENT OF DEFENSE

Department of the Army; Corps of Engineers

Intent To Prepare a Draft Environmental Impact Statement for a 20-Year Dredged Material Management Plan for the Atlantic Intracoastal Waterway from Port Royal Sound, South Carolina, to the Georgia-Florida Stateline

AGENCY: Department of the Army, U.S. Army Corps of Engineers, DOD.

ACTION: Notice of Intent.

SUMMARY: The U. S. Army Corps of Engineers is the lead Federal agency for an evaluation of the maintenance dredging of the Atlantic Intracoastal Waterway (AIWW) from Port Royal Sound, South Carolina, southward to the Georgia-Florida state line. The Corps' Savannah District intends to prepare a Draft Environmental Impact Statement (DEIS) to analyze the impacts of the maintenance dredging of this portion of the AIWW, including disposal of dredged materials. The DEIS will update the project's 1976 EIS and will analyze the impacts that have occurred from periodic dredging events since 1976 to provide a baseline for evaluating projected impacts from implementing a new Dredged Material Management Plan (DMMP) over the next 20 years. The DEIS will evaluate the anticipated 20-year dredging needs and alternative disposal options, including using existing upland confined disposal areas and Ocean Dredged Material Disposal Sites (ODMDS), establishing new ODMDS, constructing new upland confined disposal areas, constructing confining structures on existing marsh disposal areas, and using open water disposal areas. In accordance with requirements of the National Environmental Policy Act, the Corps of Engineers hereby notifies the public that it is beginning preparation of a DEIS.

DATES: Questions or written comments about the proposed action and DEIS should be provided by May 21, 2012.

ADDRESSES: Submit comments to Mr. Charles W. Seyle, US Army Corps of Engineers, Savannah District, ATTN: PD, Post Office Box 889, Savannah, GA 31402 or email: CESAS-PD.SAS@usace.army.mil. This Notice of Intent will be available on the internet at: http://www.sas.usace.army.mil/.

FOR FURTHER INFORMATION CONTACT: Mr. Charles W. Seyle at 912-652-6017.

SUPPLEMENTARY INFORMATION: Background. The AIWW between Savannah, Georgia, and Fernandina, Florida, was initially authorized by the Congress in 1882. The River and Harbor Act of 1937 provided for a 7-foot protected route around St. Andrew Sound, Georgia, and for a 12-foot channel between Beaufort, South Carolina and Savannah, Georgia. In 1938, a 12-foot channel was authorized between Savannah and Fernandina, Florida. The widths of the AIWW were to be 90 feet in land cuts and 150 feet in open waters. In addition to providing for the 12-foot channel between Beaufort and Fernandina, Congress imposed upon local interests the responsibility to furnish all lands or easements necessary for the 7-foot St. Andrews Sound channel and all necessary rights-of-way and dredged sediment disposal areas for new work and subsequent maintenance of the 12-foot channel between Beaufort and Fernandina. Work on the 12-foot channel between Beaufort and Fernandina was completed in 1941.

Savannah District, US Army Corps of Engineers records provide historical dredging information between 1942 and 2011. These records show that many of the 36 defined AIWW reaches from Port Royal Sound, South Carolina, and the Georgia-Florida border are naturally 12 feet deep or deeper and have not required dredging since construction of the waterway in the 1940s. Twenty of the reaches require periodic dredging, and of these, five require dredging every 1 to 5 years. The southernmost Georgia reach is located near the U.S. Naval Submarine Base at Kings Bay, Georgia, and the Navy is responsible for maintaining this reach. Consequently, no Corps action will be analyzed in the DEIS for that reach.

During previous dredging events along several reaches of the AIWW, dredged material that was primarily fine-grained silt was pumped onto unconfined saltmarsh disposal sites or into existing confined saltmarsh disposal sites. Material that was primarily coarse-grained sand was deposited in approved open-water disposal areas. State natural resource agencies have requested that the Corps discontinue placement of fine-grained dredged material on unconfined saltmarsh sites. The proposed DEIS would examine unconfined sediment placement on saltmarsh sites and identify locations where it would no longer be used and where its use may still be the least damaging practicable disposal method. The DMMP proposes to use a combination of new and existing disposal sites, open-water placement of sandy dredged material, and ODMDS for disposal of AIWW dredged material over the next 20 years.

The DEIS will examine a wide range of environmental resource areas including, but not limited to, air quality, traffic, noise, biological resources, cultural resources, socio-economic resources, wetlands, land use, hazardous and toxic substances, and cumulative environmental effects.

Significant issues to be analyzed in the DEIS will include potential impacts to water quality, marine and estuarine resources, wetlands, endangered species, cultural resources, commercial maritime interests, and recreational boating. Additional resources and conditions may be identified as a result of the scoping process initiated by this Notice of Intent (NOI).

All reasonable alternatives will be analyzed in the DEIS. The range of alternatives will include, but are not limited to:

• No Action (status quo);

• Use existing confined dredged material containment areas;

• Use existing Ocean Dredged Material Disposal Sites;

• Establish new Ocean Dredged Material Disposal Sites;

• Construct new confined dredged material containment areas.

The DMMP will identify disposal alternatives for several of the critical reaches and the impacts of each of these alternatives will be analyzed in the DEIS. As a result of information developed during the DEIS scoping process, other alternatives may be considered. The DEIS will analyze each alternative's impact on the natural and cultural environments along the AIWW and the surrounding area. Mitigation measures to avoid or reduce environmental impacts will also be considered in the DEIS. The DEIS is presently scheduled for release in Summer 2012. However, this date may change. Notification of the availability of the document will be published in the Federal Register and local newspapers.

Scoping Process: The Corps of Engineers invites tribal, federal, state and local agencies and the public to participate in the scoping process for preparation of the DEIS. The scoping process will help identify additional reasonable alternatives, potential environmental impacts, and key issues of concern to be analyzed in the DEIS.

Dated: April 13, 2012.
William G. Bailey,
Chief, Planning Division, Savannah District, US Army Corps of Engineers.

[FR Doc. 2012-9578 Filed 4-19-12; 8:45 am]

BILLING CODE 3730-58-P